DEPARTMENT OF DEFENSE

Department of the Army; Corps of Engineers

Notice of Availability for the Final Environmental Impact Statement/Environmental Impact Report and a Draft General Conformity Determination for the Middle Harbor Redevelopment Project, Port of Long Beach, Los Angeles County, CA

AGENCY: Department of the Army—U.S. Army Corps of Engineers, DoD.

ACTION: Notice of availability.

SUMMARY: On May 19, 2008, the U.S. Army Corps of Engineers, Los Angeles District, Regulatory Division (Corps) in coordination with the Port of Long Beach (POLB) completed and published the Draft Environmental Impact Statement/Environmental Impact Report (EIS/EIR) for the Middle Harbor Redevelopment Project (Project) in the Port of Long Beach. The Corps and POLB considered all comments received in preparing the Final EIS/EIR, which is available for a 30-day review (April 3, 2009 through May 3, 2009). The Final EIS/EIR includes a draft general conformity determination (see Appendix A-4), pursuant to Section 176(c) of the Clean Air Act. A general conformity determination is necessary because Project construction would require Federal action (i.e., issuance of a Corps permit for activities proposed in navigable waters and waters of the U.S.) and not all the Federal action's direct and indirect emissions would be below specified de minimis thresholds (40 CFR 93.153(b)). Pursuant to the general conformity regulations (40 CFR part 93, subpart B), general conformity determinations do not have to be included in the EIS and can be separately noticed, but the draft general conformity determination for the Federal action associated with the Project is being included in the Final EIS/EIR in this case.

The Final EIS/EIR, including the draft general conformity determination, is available for public review during the next 30 days at the Port of Long Beach, 925 Harbor Plaza, Long Beach, California and on the Port's Web site: http://www.portoflosangeles.org. In addition, the Final EIS/EIR, including the draft general conformity determination, is available at the Long Beach Public Library, Main Branch, 101 Pacific Avenue, Long Beach, CA 90822.

Any comments received by the Corps and POLB on the Final EIS/EIR or the included draft general conformity determination during the next 30 days will be considered fully before the Corps makes a final general conformity determination and finalizes the Record of Decision (ROD) for the Federal action associated with the Project. The Corps will publish a notice of a final general conformity determination in the Federal Register within 30 days of rendering a final decision. The public can request from the Corps copies of the ROD, which includes responses to comments on the Final EIS/EIR, including any on the draft general conformity determination, following publication of a final general conformity determination and upon execution of the ROD.

FOR FURTHER INFORMATION CONTACT: Questions or comments concerning the Final EIS/EIR or the included draft general conformity determination should be provided by May 3, 2009 to Antal Szijj, Senior Project Manager, North Coast Branch, Regulatory Division, U.S. Army Corps of Engineers, 2151 Alessandro Drive, Suite 110, Ventura, California 93001, (805) 585-2147.

SUPPLEMENTARY INFORMATION: None.

Aaron O. Allen,
Acting Chief, Regulatory Division, Los Angeles District.

[FR Doc. E9-7524 Filed 4-2-09; 8:45 am]

BILLING CODE 3710-KF-P